DEPARTMENT OF THE INTERIOR

Fish and Wildlife Service

Migratory Bird Hunting; Notice of Intent To Prepare a Supplemental Environmental Impact Statement on the Sport Hunting of Migratory Birds

AGENCY: Fish and Wildlife Service, Interior.

ACTION: Notice of intent.

SUMMARY: The U.S. Fish and Wildlife Service (Service or we) is issuing this notice to advise the public that we are initiating efforts to prepare a Supplemental Environmental Impact Statement (EIS) for the Sport Hunting of Migratory Birds under the authority of the Migratory Bird Treaty Act. The EIS will consider a range of management alternatives for addressing sport hunting of migratory birds under the authority of the Migratory Bird Treaty Act. The Service seeks suggestions and comments on the scope and substance of this supplemental EIS, options or alternatives to be considered, and important management issues. Federal and State agencies and the public are invited to present their views on the subject to the Service. While we have yet to determine potential sites of public scoping meetings, we will publish a notice of any such public meetings with the locations, dates, and times in the Federal Register.

DATES: You must submit written comments regarding EIS scoping by January 6, 2006, to the address below.

ADDRESSES: You should send written comments to the Chief, Division of Migratory Bird Management, U.S. Fish and Wildlife Service, Department of the Interior, MS MBSP-4107-ARLSQ, 1849 C Street, NW., Washington, DC 20240. Alternately, you may fax comments to (703) 358-2217 or e-mail comments to huntingseis@fws.gov. All comments received, including names and addresses, will become part of the public record. Anonymous comments will not be considered. Further, all written comments must be submitted on 8.5-by-11-inch paper. You may inspect comments during normal business hours in room 4107, 4501 North Fairfax Drive, Arlington, Virginia.

FOR FURTHER INFORMATION CONTACT: Brian Millsap, Chief, or Ron W. Kokel, Division of Migratory Bird Management, U.S. Fish and Wildlife Service, (703) 358-1714.

SUPPLEMENTARY INFORMATION:

Background and Overview

Migratory game birds are those bird species so designated in bilateral conventions between the United States and Canada, Mexico, Japan, and Russia for the protection and management of these birds. Under the Migratory Bird Treaty Act and the Fish and Wildlife Improvement Act of 1978 (16 U.S.C. 703-712), the Secretary of the Interior is authorized to determine when “hunting, taking, capture, killing, possession, sale, purchase, shipment, transportation, carriage, or export of any * * * bird, or any part, nest or egg” of migratory game birds can take place, and to adopt regulations for this purpose. These regulations are issued with due regard to “the zones of temperature and the distribution, abundance, economic value, breeding habits, and times and lines of migratory flight of such birds” and compatibility with the conventions. This responsibility has been delegated to the U.S. Fish and Wildlife Service of the Department of the Interior as the lead Federal agency for managing and conserving migratory birds in the United States.

The Service currently promulgates regulations allowing and governing the hunting of migratory game birds in the families Anatidae (waterfowl), Gruidae (cranes), Rallidae (rails), Scolopacidae (snipe and woodcock), and Columbidae (doves and pigeons). Regulations governing seasons and limits are promulgated annually, in part due to considerations such as the abundance of birds, which can change from year to year, and are developed by establishing the frameworks, or outside limits, for earliest opening and latest closing dates, season lengths, limits (daily bag and possession), and areas for migratory game bird hunting. These “annual” regulations have been promulgated by the Service each year since 1918. Other regulations, termed “basic” regulations (for example, those governing hunting methods), are promulgated once and changed only when a need to do so arises. All hunting regulations are contained in 50 CFR parts 20 and 92.

The Current Process for Establishing Sport Hunting Regulations

Acknowledging regional differences in hunting conditions and an increased understanding of population status and distribution, the Service in 1947 administratively divided the nation into four Flyways for the primary purpose of managing the harvest of migratory game birds. Each Flyway (Atlantic, Mississippi, Central, and Pacific) has a Flyway Council, a formal organization generally composed of one member from each State and Province in that Flyway. The Flyway Councils, established through the International Association of Fish and Wildlife Agencies (IAFWA), also assist in researching and providing migratory game bird management information for Federal, State, and Provincial Governments, as well as private conservation agencies and the general public.

The annual establishment of migratory game bird hunting regulations is constrained by three primary factors. Legal and administrative considerations dictate how long the rulemaking process will last. Most importantly, however, the biological cycles of migratory game birds control the timing of data-gathering activities and thus the dates on which these results are available for consideration and deliberation.

The process includes two separate regulations-development schedules, based on early and late hunting-season regulations. Early hunting seasons pertain to all migratory game bird species in Alaska, Hawaii, Puerto Rico, and the Virgin Islands; migratory game birds other than waterfowl (i.e., dove, woodcock, etc.); and special early waterfowl seasons, such as those for teal or resident Canada geese. Early hunting seasons generally begin in early September. Late hunting seasons generally start in late September, and include most waterfowl seasons not already established.

There are basically no differences in the processes for establishing early and late hunting seasons. For each cycle, Service biologists gather, analyze, and interpret biological survey data and provide this information to all those involved in the process through a series of published status reports and presentations to Flyway Councils and other interested parties. Because the Service is required to take abundance of migratory game birds and other factors into consideration, the Service undertakes a number of surveys throughout the year in conjunction with Service Regional Offices, the Canadian Wildlife Service, and State and Provincial wildlife-management agencies. To determine the appropriate frameworks for each species, we consider factors such as population size and trend, geographic distribution, annual breeding effort, the condition of breeding and wintering habitat, the number of hunters, and the anticipated harvest.

After frameworks are established by the Service for outside dates, season lengths, limits, and areas for migratory game bird hunting, States then select season dates, limits, and other regulatory options for their respective hunting seasons. States may be more conservative in their selections than the Federal frameworks allow but not more liberal.

The Tribal Process

Beginning with the 1985-86 hunting season, we have employed guidelines described in the June 4, 1985, Federal Register (50 FR 23467) to establish special migratory game bird hunting regulations on Federal Indian reservations (including off-reservation trust lands) and ceded lands. We developed these guidelines in response to tribal requests for our recognition of their reserved hunting rights, and for some tribes, recognition of their authority to regulate hunting by both tribal and nontribal members throughout their reservations. The current guidelines include possibilities for:

(1) On-reservation hunting by both tribal and nontribal members, with hunting by nontribal members on some reservations to take place within Federal frameworks, but on dates different from those selected by the surrounding State(s);

(2) On-reservation hunting by tribal members only, outside of usual Federal frameworks for season dates and length, and for daily bag and possession limits; and

(3) Off-reservation hunting by tribal members on ceded lands, outside of usual framework dates and season length, with some added flexibility in daily bag and possession limits.

In all cases, tribal regulations established under the guidelines must be consistent with the annual March 10 to September 1 closed season mandated by the 1916 Convention Between the United States and Great Britain (for Canada) for the Protection of Migratory Birds (Convention). The guidelines are applicable to those tribes that have reserved hunting rights on Federal Indian reservations (including off-reservation trust lands) and ceded lands. They also may be applied to the establishment of migratory game bird hunting regulations for nontribal members on all lands within the exterior boundaries of reservations where tribes have full wildlife management authority over such hunting, or where the tribes and affected States otherwise have reached agreement over hunting by nontribal members on non-Indian lands.

The current process for establishing special migratory bird hunting regulations for certain tribes on Federal Indian reservations, off-reservation trust lands, and ceded lands consists of active solicitation of regulatory proposals from tribal groups that are interested in working cooperatively for the benefit of waterfowl and other migratory game birds. We encourage Tribes to work with us to develop agreements for management of migratory bird resources on tribal lands. Following submission of tribal proposals and review of proposals and population status information, proposed and final rules are published in a subsequent series of Federal Register documents. Similar to the establishment of the sport-hunting regulations, regulations are established for early-season and late-season hunting.

The Alaska Subsistence Process

In 1916, the United States and Great Britain (on behalf of Canada) signed the Convention for the Protection of Migratory Birds in Canada and the United States (Canada Treaty). In 1936, the United States and Mexico signed the Convention for the Protection of Migratory Birds and Game Mammals (Mexico Treaty). In combination, the treaties prohibited all commercial bird hunting and specified a closed season on the taking of migratory game birds between March 10 and September 1 of each year. Additionally, and unfortunately, neither treaty adequately allowed for the traditional harvest of migratory birds by northern peoples during the spring and summer months. This harvest, which has occurred for centuries, was and is necessary to the subsistence way of life in the North and thus continued despite the closed season.

To remedy this situation, the United States negotiated Protocols amending the treaties to allow for subsistence harvest of migratory birds by indigenous inhabitants of identified subsistence harvest areas in Alaska. The U.S. Senate approved the amendments to both treaties in 1997.

The major goals of the amended treaty with Canada were to allow traditional subsistence harvest and improve conservation of migratory birds by allowing effective regulation of this harvest. The amended treaty with Canada provides a means to allow permanent residents of villages within subsistence harvest areas, regardless of race, to continue harvesting migratory birds between March 10 and September 1 as they have done for thousands of years.

In 1998, we began a public involvement process to determine how to structure management bodies to provide the most effective and efficient involvement for subsistence users. This process was concluded on March 28, 2000, when we published in the Federal Register (65 FR 16405) the Notice of Decision: “Establishment of Management Bodies in Alaska to Develop Recommendations Related to the Spring/Summer Subsistence Harvest of Migratory Birds.” This notice described the establishment and organization of 12 regional management bodies plus the Alaska Migratory Bird Co-management Council (Co-management Council).

Establishment of a migratory bird subsistence harvest began on August 16, 2002, when we published in the Federal Register (67 FR 53511) a final rule at 50 CFR part 92 that set procedures for incorporating subsistence management into the continental migratory bird management program. These regulations established an annual procedure to develop harvest guidelines to implement a subsistence migratory bird harvest.

The first subsistence migratory bird harvest system was finalized on July 21, 2003, when we published in the Federal Register (68 FR 43010) a final rule at 50 CFR parts 20, 21, and 92 that created the first annual harvest regulations for the 2003 subsistence migratory bird season in Alaska. These annual frameworks were not intended to be a complete, all-inclusive set of regulations, but were intended to regulate continuation of customary and traditional subsistence uses of migratory birds in Alaska during the spring and summer. See the August 16, 2002, July 21, 2003, and April 2, 2004 (69 FR 17318), final rules for additional background information on the subsistence harvest program for migratory birds in Alaska.

Past NEPA Considerations—1975 EIS and 1988 SEIS

Migratory bird hunting is an activity of considerable ecological and socio-economic importance. Recent analyses indicate that the expected welfare benefit of the annual migratory bird hunting frameworks is on the order of $734 million to $1.064 billion. Further, we estimated that migratory bird hunters would spend between $481 million and $1.2 billion at small businesses in 2004.

In June 1975, we published a programmatic document, “Final Environmental Statement for Issuance of Annual Regulations Permitting the Sport Hunting of Migratory Birds (FES 75-54).” The continuation of annual regulations was the proposed action and the preferred alternative. In 1988, we published an additional programmatic document, “Final Supplemental Environmental Impact Statement: Issuance of Annual Regulations Permitting the Sport Hunting of Migratory Birds (FSES 88-14),” filed with the Environmental Protection Agency on June 9, 1988. We published a Notice of Availability in the Federal Register on June 16, 1988 (53 FR 22582) and our Record of Decision on August 18, 1988 (53 FR 31341). The 1988 SEIS maintained the proposed action of issuing annual migratory bird hunting regulations. The Service's preferred alternative in the 1988 SEIS was to stabilize the so-called “framework” regulations (outside dates, season lengths, and limits) for fixed periods of time, subject to annual review and possible change according to population status; and to control the use of “special” regulations (e.g., special seasons).

Since 1988, a number of developments have occurred. The status of some migratory bird populations has changed significantly. Advances in the collection and interpretation of data have been made, including expansion of breeding-ground waterfowl surveys and implementation of the Harvest Information Program. Adaptive Harvest Management is now used as an approach for setting duck-hunting regulations in the United States and provides a framework for making objective decisions despite continued uncertainty about waterfowl population dynamics and regulatory impacts. The Alaska migratory bird subsistence regulations have been in existence since 2003. These developments and others make it desirable to supplement the preceding EIS documents and reexamine some of the issues associated with the issuance of annual regulations.

Issue Resolution and Environmental Review

We intend to develop a supplemental EIS on the “Issuance of Annual Regulations Permitting the Sport Hunting of Migratory Birds,” beginning the process with this announcement. Federal and State agencies, private conservation organizations, and all other interested parties and individuals are invited to participate in the process by presenting their views on the subject. We seek suggestions and comments regarding the scope and substance of this supplemental EIS, particular issues to be addressed and why, and options or alternatives to be considered. In particular, in regard to the scope and substance of this supplemental EIS, we seek comments on the following:

(1) Harvest management alternatives for migratory game birds to be considered,

(2) Limiting the scope of the assessment to sport hunting (i.e., exclusion of the Alaska migratory bird subsistence process), and

(3) Inclusion of basic regulations (methods and means).

Comments should be forwarded to the above address by the deadline indicated. We will conduct the development of this supplemental EIS in accordance with the requirements of the National Environmental Policy Act of 1969 as amended (42 U.S.C. 4371 et seq.), other appropriate federal regulations, and Service procedures for compliance with those regulations. We are furnishing this Notice in accordance with 40 CFR 1501.7, to obtain suggestions and information from other agencies, tribes, and the public on the scope of issues to be addressed in the supplemental EIS.

Public Scoping Meetings

A schedule of public scoping meeting dates, locations, and times is not available at this time. We will publish a notice of any such meetings in the Federal Register.

Dated: August 24, 2005.
Matt Hogan,
Acting Director, U.S. Fish and Wildlife Service.

[FR Doc. 05-17798 Filed 9-7-05; 8:45 am]

BILLING CODE 4310-55-P